FEDERAL DEPOSIT INSURANCE CORPORATION

Determination of Insufficient Assets To Satisfy All Claims of Financial Institution in Receivership

ACTION: Notice.

SUMMARY: The Federal Deposit Insurance Corporation (FDIC) has determined that the proceeds that can be realized from the liquidation of assets of the receivership listed in SUPPLEMENTARY INFORMATION are insufficient to wholly satisfy the priority claims of depositors against the receivership estate. Therefore, upon satisfaction of secured claims, depositor claims, and claims which have priority over depositors under applicable law, no amount will remain or will be recovered sufficient to allow a dividend, distribution, or payment to any creditor of lesser priority, including but not limited to claims of general creditors. Any such claims are hereby determined to be worthless.

FOR FURTHER INFORMATION CONTACT: Thomas Bolt, Counsel, Legal Division, FDIC, 550 17th Street, NW., Room H-11052, Washington, DC 20429. Telephone: (202) 736-0168.

SUPPLEMENTARY INFORMATION: Financial Institution in Receivership Determined To Have Insufficient Assets to Satisfy All Claims, FIN 4662, Pulaski Savings Bank, Philadelphia, Pennsylvania.

Federal Deposit Insurance Corporation.
Robert E. Feldman,
Executive Secretary.

[FR Doc. E5-31 Filed 1-6-05; 8:45 am]

BILLING CODE 6714-01-P